COMMISSION ON CIVIL RIGHTS

Sunshine Act Meeting Notice

AGENCY: United States Commission on Civil Rights.

ACTION: Notice of Commission Business Meeting.

DATE AND TIME: Thursday, January 29, 2015; 1:00 p.m. EST.

PLACE: 1331 Pennsylvania Ave. NW., Suite 1150, Washington, DC.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION:

Meeting Agenda

This meeting is open to the public.

I. Approval of Agenda

II. Program Planning

• Vote on Appointment of Vice Chair for the Commission

• Discussion on FY15 Appropriations Explanatory Statement

• Discussion and Vote on Updating Select Commission Reports

• Discussion and Vote on date for the Police Practices briefing

• Discussion and Vote on revised Educational Equity paper

• Discussion and Vote on Anniversary of 13th Amendment Press Release

III. Management and Operations

• Staff Director's Report

IV. State Advisory Committee (SAC) Appointments

• Florida

• Michigan

• South Carolina

• Texas

• Virginia

• Wisconsin

V. Adjourn Meeting

Dated: January 16, 2015.
Marlene Sallo,
Staff Director.

[FR Doc. 2015-01109 Filed 1-20-15; 11:15 am]

BILLING CODE 6335-01-P